DEPARTMENT OF TRANSPORTATION

Federal Aviation Administration

14 CFR Part 39

[Docket No. 2002-NM-163-AD]

RIN 2120-AA64

Airworthiness Directives; Airbus Model A319, A320, and A321 Series Airplanes

AGENCY: Federal Aviation Administration, DOT.

ACTION: Notice of proposed rulemaking (NPRM).

SUMMARY: This document proposes the supersedure of an existing airworthiness directive (AD), applicable to all Airbus Model A319, A320, and A321 series airplanes. That AD currently requires identification of the part number and serial number of the parking brake operated valve (PBOV); and, if necessary, inspection of the PBOV, including a functional check of the PBOV, and follow-on and corrective actions. That AD also provides for an optional terminating action for the requirements of that AD. This new action would mandate the optional terminating action, which would terminate the inspection requirements of the previous AD. The actions specified by the proposed AD are intended to prevent leakage of hydraulic fluid from the PBOV, which could cause the loss of the parking brake accumulator, and render the alternate braking system and the parking/emergency braking system inoperative, as well as the loss of function of the yellow hydraulic system (which provides all or part of the hydraulics for the elevator, rudder, aileron, flaps, stabilizer, yaw damper, pitch and yaw feel systems and autopilot, and certain spoilers).

DATES: Comments must be received by February 25, 2004.

ADDRESSES: Submit comments in triplicate to the Federal Aviation Administration (FAA), Transport Airplane Directorate, ANM-114, Attention: Rules Docket No. 2002-NM-163-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-163-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-163-AD.” The postcard will be date stamped and returned to the commenter.

Availability of NPRMs

Any person may obtain a copy of this NPRM by submitting a request to the FAA, Transport Airplane Directorate, ANM-114, Attention: Rules Docket No. 2002-NM-163-AD, 1601 Lind Avenue, SW., Renton, Washington 98055-4056.

Discussion

On April 12, 2002, the FAA issued AD 2002-08-13, amendment 39-12721 (67 FR 19652, April 23, 2002); applicable to all Airbus Model A319, A320, and A321 series airplanes; to require identification of the part number and serial number of the parking brake operated valve (PBOV); and, if necessary, inspection of the PBOV, including a functional check of the PBOV, and follow-on and corrective actions. AD 2002-08-13 also provides for optional terminating action for the requirements of that AD. That action was prompted by reports of PBOV leakage of hydraulic fluid on certain Airbus Model A320 series airplanes. The requirements of that AD are intended to prevent loss of the yellow hydraulic system, which provides all or part of the hydraulics for the elevator, rudder, aileron, flaps, stabilizer, yaw damper, pitch and yaw feel systems and autopilot, and certain spoilers.

In the preamble to AD 2002-08-13, the FAA indicated that the actions required by that AD were considered “interim action” and that further rulemaking action was being considered. The FAA now has determined that further rulemaking is indeed necessary, and this proposed AD follows from that determination.

Explanation of Relevant Service Information

Airbus has issued Service Bulletin A320-32A1233, Revision 01, dated October 1, 2001, which describes procedures for identifying the part number and serial number of the PBOV. (The existing AD refers to the original issue of that service bulletin, dated August 16, 2001, as the acceptable source of service information for the required actions.) For a PBOV having a certain part and serial number, the service bulletin describes procedures for an inspection to detect leakage or spray of hydraulic fluid from the vent hole and to detect leakage or seepage of any of the three hydraulic connections. The inspection includes a test (functional check) of the PBOV. The service bulletin recommends repetitive tests if the PBOV passes the test; and repair or replacement if the PBOV fails, with repetitive tests if necessary. For certain conditions, when a replacement spare is unavailable, the service bulletin recommends contacting the manufacturer for further action. This service bulletin also describes procedures for the repair or replacement of all affected PBOVs. The service bulletin refers to Messier-Bugatti Service Bulletin A25315-32-3215 as an additional source of service information for the PBOV repair.

The Direction Générale de l'Aviation Civile (DGAC), which is the airworthiness authority for France, classified this service bulletin as mandatory and issued French airworthiness directive 2001-384(B) R1, dated March 20, 2002, to ensure the continued airworthiness of these airplanes in France.

FAA's Conclusions

These airplane models are manufactured in France and is type certificated for operation in the United States under the provisions of section 21.29 of the Federal Aviation Regulations (14 CFR 21.29) and the applicable bilateral airworthiness agreement. Pursuant to this bilateral airworthiness agreement, the DGAC has kept the FAA informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, this proposed AD would supersede AD 2002-08-13 to continue to require identification of the part number and serial number of the PBOV, an inspection to detect leakage or spray of hydraulic fluid from the vent hole, and to detect leakage or seepage of any of the three hydraulic connections, if necessary; repetitive tests if the PBOV passes the test; and repair or replacement if the PBOV fails, with repetitive tests if necessary. This proposed AD would require repair or replacement of all affected PBOV valves, which would constitute terminating action for the inspection requirements of the AD. The actions would be required to be accomplished in accordance with the service bulletin described previously, except as discussed below.

Differences Between Proposed Rule and Referenced Service Bulletin

Operators should note that although the service bulletin specifies to submit certain information to the manufacturer, this proposed AD does not include such a requirement.

Operators should also note that, although the service bulletin specifies that the manufacturer may be contacted for disposition of certain repair conditions, this AD requires those corrective actions to be accomplished in accordance with a method approved either by the FAA or the DGAC (or its delegated agent). In light of the type of action required to address the identified unsafe condition, and in consonance with existing bilateral airworthiness agreements, the FAA has determined that, for this AD, corrective action approved by either the FAA or the DGAC is acceptable for compliance.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance. Because we have now included this material in part 39, we no longer need to include it in each individual AD; therefore, paragraph (f) and Note 1 of AD 2002-08-13 are not included in this proposed AD. However, this proposed AD identifies the office authorized to approve alternative methods of compliance.

Cost Impact

There are approximately 333 airplanes of U.S. registry that would be affected by this proposed AD. The new requirements of this AD add no additional economic burden. The current costs for this AD are as follows:

The actions that are currently required by AD 2002-08-13, and that are also required by the proposed AD, take approximately 2 work hours per airplane to accomplish, at an average labor rate of $65 per work hour. Based on these figures, the cost impact of the currently required actions on U.S. operators is estimated to be $43,290 or $130 per airplane.

The cost impact figure discussed above is based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12721 (67 FR 19652, April 23, 2002), and by adding a new airworthiness directive (AD), to read as follows:

Airbus: Docket 2002-NM-163-AD. Supersedes AD 2002-08-13, Amendment 39-12721.

Applicability: All Model A319, A320, and A321 series airplanes, certificated in any category.

Compliance: Required as indicated, unless accomplished previously.

To prevent leakage of hydraulic fluid from the parking brake operated valve (PBOV), which could cause the loss of the parking brake accumulator, and render the alternate braking system and the parking/emergency braking system inoperative, as well as causing the loss of function of the yellow hydraulic system (which provides all or part of the hydraulics for the elevator, rudder, aileron, flaps, stabilizer, yaw damper, pitch and yaw feel systems and autopilot, and certain spoilers); accomplish the following:

Restatement of Requirements of AD 2002-08-13

Inspection and Functional Check

(a) Within 7 days after May 8, 2002 (the effective date of AD 2002-08-13, amendment 39-12721), identify the part number and serial number of the PBOV to determine whether the PBOV is an affected part, as identified by Airbus Service Bulletin A320-32A1233, dated August 16, 2001; or Revision 01, dated October 1, 2001.

(1) If the PBOV is NOT an affected part: No further action is required by this paragraph.

(2) If the PBOV is an affected part: Except as required by paragraph (b) of this AD, prior to further flight, test the PBOV in accordance with the service bulletin; and thereafter perform follow-on and corrective actions (including repetitive tests and repair of the PBOV or replacement with a serviceable PBOV) at the time specified by and in accordance with the service bulletin, as applicable.

(b) If Airbus Service Bulletin A320-32A1233, dated August 16, 2001; or Revision 01, dated October 1, 2001; specifies to contact the manufacturer for corrective action: Prior to further flight, perform the corrective action in accordance with a method approved by either the Manager, International Branch, ANM-116, FAA, Transport Airplane Directorate, or the Direction Générale de l'Aviation Civile (DGAC) (or its delegated agent).

Optional Terminating Action

(c) Replacement of the PBOV with a new, non-affected PBOV terminates the requirements of this AD. Affected PBOVs are identified in Airbus Service Bulletin A320-32A1233, dated August 16, 2001; or Revision 01, dated October 1, 2001.

Parts Installation

(d) As of May 8, 2002 (the effective date of AD 2002-08-13), no person may install an affected PBOV on any airplane, unless that PBOV is in compliance with all applicable requirements of this AD. Affected PBOVs are identified by Airbus Service Bulletin A320-32A1233, dated August 16, 2001; or Revision 01, dated October 1, 2001.

New Requirements of This AD

Repair or Replace

(e) Within 9 months after the effective date of this AD, repair or replace all the PBOVs identified during the inspection required by paragraph (a) of this AD as having part number A25315-1, and having a serial number between H2372 and H2989 inclusive, that are not identified with the letter “V” or “VF+E.” Repair or replace the PBOVs in accordance with the Accomplishment Instructions of Airbus Service Bulletin A320-32A1233, Revision 01, dated October 1, 2001.

Note 1: The service bulletin refers to Messier-Bugatti Service Bulletin A25315-32-3215 as an additional source of service information for the PBOV repair or replacement.

Terminating Action

(f) Repair or replacement of the PBOV per paragraph (e) of this AD terminates the requirements of this AD.

Actions Done per Previous Issue of Service Bulletin

(g) Repairs or replacements done before the effective date of this AD in accordance with Airbus Service Bulletin A320-32A1233, dated August 16, 2001, are considered acceptable for compliance with the applicable actions specified in this AD.

Alternative Methods of Compliance

(h)(1) In accordance with 14 CFR 39.19, the Manager, International Branch, ANM-116, is authorized to approve alternative methods of compliance for this AD.

(2) Alternative methods of compliance, approved previously per AD 2002-08-13, amendment 39-12721, are approved as alternative methods of compliance with this AD.

Note 2: The subject of this AD is addressed in French airworthiness directive 2001-384(B) R1, dated March 20, 2002.

Issued in Renton, Washington, on January 14, 2004.
Ali Bahrami,
Acting Manager, Transport Airplane Directorate, Aircraft Certification Service.

[FR Doc. 04-1563 Filed 1-23-04; 8:45 am]

BILLING CODE 4910-13-P